DEPARTMENT OF COMMERCE

National Oceanic and Atmospheric Administration

50 CFR Part 660

[Docket No. 140107014-4014-01]

RIN 0648-XD547

Fisheries Off West Coast States; Modifications of the West Coast Commercial and Recreational Salmon Fisheries; Inseason Actions #24 through #44

AGENCY: National Marine Fisheries Service (NMFS), National Oceanic and Atmospheric Administration (NOAA), Commerce.

ACTION: Modification of fishing seasons; request for comments.

SUMMARY: NMFS announces 21 inseason actions in the ocean salmon fisheries. These inseason actions modified the commercial and recreational salmon fisheries in the area from the U.S./Canada border to U.S./Mexico border.

DATES: The effective dates for the inseason actions are set out in this document under the heading Inseason Actions. Comments will be accepted through January 6, 2015.

ADDRESSES: You may submit comments, identified by NOAA-NMFS-2014-0005, by any one of the following methods:

• Electronic Submissions: Submit all electronic public comments via the Federal eRulemaking Portal. Go to www.regulations.gov/#!docketDetail;D=NOAA-NMFS-2014-0005, click the “Comment Now!” icon, complete the required fields, and enter or attach your comments.

• Mail: William W. Stelle, Jr., Regional Administrator, West Coast Region, NMFS, 7600 Sand Point Way NE., Seattle, WA, 98115-6349.

• Fax: 206-526-6736, Attn: Peggy Mundy.

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous). Attachments to electronic comments will be accepted in Microsoft Word, Excel, or Adobe PDF file formats only.

FOR FURTHER INFORMATION CONTACT: Peggy Mundy at 206-526-4323.

SUPPLEMENTARY INFORMATION:

Background

In the 2014 annual management measures for ocean salmon fisheries (79 FR 24580, May 1, 2014), NMFS announced the commercial and recreational fisheries in the area from the U.S./Canada border to the U.S./Mexico border, beginning May 1, 2014, and 2015 salmon seasons opening earlier than May 1, 2015. NMFS is authorized to implement inseason management actions to modify fishing seasons and quotas as necessary to provide fishing opportunity while meeting management objectives for the affected species (50 CFR 660.409). Inseason actions in the salmon fishery may be taken directly by NMFS (50 CFR 660.409(a)—Fixed inseason management provisions) or upon consultation with the Pacific Fishery Management Council (Council) and the appropriate State Directors (50 CFR 660.409(b)—Flexible inseason management provisions). The state management agencies that participate in these consultations are: California Department of Fish and Wildlife (CDFW), Oregon Department of Fish and Wildlife (ODFW), and Washington Department of Fish and Wildlife (WDFW).

Management of the salmon fisheries is generally divided into two geographic areas: north of Cape Falcon (U.S./Canada border to Cape Falcon, OR) and south of Cape Falcon (Cape Falcon, OR, to the U.S./Mexico border). The inseason actions reported in this document affect fisheries north and south of Cape Falcon. Within the south of Cape Falcon area, the Klamath Management Zone (KMZ) extends from Humbug Mountain, OR, to Humboldt South Jetty, CA, and is divided at the Oregon/California border into the Oregon KMZ to the north and California KMZ to the south. Recreational fisheries north of Cape Falcon are managed in four subareas, named for the ports where landings occur. These subareas are: Neah Bay (U.S./Canada border to Cape Alava), La Push (Cape Alava to Queets River), Westport (Queets River to Leadbetter Point), and Columbia River (Leadbetter Point to Cape Falcon). All times mentioned refer to Pacific daylight time.

Inseason Actions

Inseason Action #24

Description of action: Inseason action #24 modified the dates and landing limit for the August 2014 commercial salmon fishery in the Oregon KMZ. Open dates were limited to the following schedule: August 13 through 15, August 20 through 21, and August 27 through 28. The landing limit remained 15 Chinook salmon per vessel per day. This action superseded inseason action #19 (79 FR 64129, October 28, 2014).

Effective dates: Inseason action #24 took effect on August 11, 2014, and remained in effect through August 31, 2014.

Reason and authorization for the action: Catch data for this fishery suggested that quota would be exceeded if action was not taken to further restrict harvest. Inseason action #24 was implemented to allow access to available quota without exceeding the quota set preseason. Inseason action to modify quotas and/or fishing seasons is authorized by 50 CFR 660.409(b)(1)(i).

Consultation date and participants: Consultation on inseason action #24 occurred on August 11, 2014. Participants were staff from NMFS, Council, ODFW, and CDFW.

Inseason Action #25

Description of action: Inseason action #25 adjusted the daily recreational bag limit in the Westport subarea to allow retention of two salmon per day, both of which could be Chinook salmon. Previously, the two-fish bag limit allowed retention of only one Chinook salmon.

Effective dates: Inseason action #25 took effect on August 18, 2014, and remained in effect until the affected fishery closed.

Reason and authorization for the action: This inseason action was taken to allow greater access to available quota for Chinook salmon. Inseason action to modify recreational bag limits is authorized by 50 CFR 660.409(b)(1)(iii).

Consultation date and participants: Consultation on inseason action #25 occurred on August 14, 2014. Participants were staff from NMFS, Council, ODFW, and WDFW.

Inseason Action #26

Description of action: Inseason action #26 rolled over unutilized quota from Cape Falcon to the Oregon/California border recreational mark-selective coho fishery (June 21 through August 10) to the non-mark-selective recreational fishery from Cape Falcon to Humbug Mountain (August 30 through September 30); and transferred coho quota from the recreational fishery to the commercial fishery. Of the 31,470 marked coho quota that remained from the summer mark-selective coho fishery, 15,000 coho were transferred to the non-mark-selective recreational fishery Cape Falcon to Humbug Mountain (August 30 through September 30) for an adjusted quota of 35,000. From the recreational fishery, 5,300 coho were transferred to the commercial fishery, Cape Falcon to Humbug Mountain, non-mark-selective incidental coho retention (September 3 through September 30). All quota transfers were adjusted to be impact-neutral for Lower Columbia River natural coho, as calculated by the Council's Salmon Technical Team (STT).

Effective dates: Inseason action #26 took effect on August 18, and remained in effect until the affected fisheries closed.

Reason and authorization for the action: This inseason action was taken to allow access to available quota that had not been utilized in the Cape Falcon to Oregon/California border recreational mark-selective coho fishery, as provided for in the annual management measures (79 FR 24580). Inseason action to modify quotas is authorized by 50 CFR 660.409(b)(1)(i).

Consultation date and participants: Consultation on inseason action #26 occurred on August 18, 2014. Participants were staff from NMFS, Council, ODFW, CDFW, and WDFW.

Inseason Action #27

Description of action: Inseason action #27 set landing limits for the commercial fishery, Cape Falcon to Humbug Mountain, non-selective incidental coho retention (September 3 through September 30). One coho for each landed Chinook salmon with a landing week limit, Wednesday through Tuesday, of 20 coho per vessel. Guidance set preseason was that, if this incidental coho retention was allowed, the landing limit should be no more than one coho for each landed Chinook with a landing week limit of no more than 20 coho per vessel.

Effective dates: Inseason action #27 took effect on September 3, 2014, and remained in effect through September 30, 2014.

Reason and authorization for the action: Non-selective incidental coho retention in the September commercial salmon fishery south of Cape Falcon was provided for in the annual management measures (79 FR 24580) as a possibility, if sufficient quota was available for transfer to this fishery from the Cape Falcon to Humbug Mountain recreational salmon fishery. The required transfer of quota was implemented under inseason action #26. Inseason action #27 was taken to implement this commercial non-selective coho fishery and to adopt landing limits for this fishery that were consistent with preseason planning. Inseason action to modify the species that may be caught and landed during specific seasons is authorized by 50 CFR 660.409(b)(1)(ii).

Consultation date and participants: Consultation on inseason action #27 occurred on August 18, 2014. Participants were staff from NMFS, Council, ODFW, CDFW, and WDFW.

Inseason Action #28

Description of action: Inseason action #28 modified the landing and possession limit in the commercial salmon fishery north of Cape Falcon to 35 Chinook and 50 marked coho per vessel per open period north of Queets River or 35 Chinook and 150 marked coho per vessel per open period south of Queets River. North of Falcon commercial fisheries continue on a Friday through Tuesday open period schedule. This action superseded inseason action #22 (79 FR 64129), which set a single landing limit north of Cape Falcon of 75 Chinook and 150 marked coho per vessel per open period.

Effective dates: Inseason action #28 took effect August 22, 2014, and remained in effect until superseded by inseason action #32 on August 29, 2014.

Reason and authorization for the action: The reduced landing limits for Chinook salmon were implemented to slow harvest on remaining Chinook quota in an effort to sustain the fishery to September 16, as planned preseason. The differential landing limits for coho salmon were implemented due to the large amount of coho quota remaining in the subarea south of Queets River; the subarea north of Queets River had limited coho quota due to fishery impacts on South Thompson River coho from British Columbia, Canada. This inseason action was taken to allow access to available quotas without exceeding the quotas set preseason. Inseason action to modify limited retention regulations is authorized by 50 CFR 660.409(b)(1)(ii).

Consultation date and participants: Consultation on inseason action #28 occurred on August 18, 2014. Participants were staff from NMFS, Council, ODFW, and WDFW.

Inseason Actions #29 and #30

Inseason actions #29 and #30 modified the landing and possession limit for Pacific halibut caught incidental to the commercial salmon fishery by fishers licensed by the International Pacific Halibut Commission (IPHC). Prior to these actions, the landing limit was one Pacific halibut per four Chinook, per vessel per trip, with a trip limit of seven halibut. These actions kept the same ratio, but changed the trip limit to three Pacific halibut. Because the commercial salmon fishery north of Cape Falcon was operating on a five day per week schedule (Friday through Tuesday), and the fishery south of Cape Falcon was operating on a seven day per week schedule (Wednesday through Tuesday), it was necessary to implement this change in halibut retention in two separate actions.

Description of action #29: Inseason action #29 modified the incidental halibut landing and possession limit north of Cape Falcon, effective 12:01 a.m., Friday, August 22, 2014, to no more than one Pacific halibut per each four Chinook, except one Pacific halibut may be possessed or landed without meeting the ratio requirement, and no more than 3 halibut may be possessed or landed per trip. Inseason action #29 superseded inseason action #23 (79 FR 64129) north of Cape Falcon.

Description of action #30: Inseason action #30 modified the landing and possession limit for Pacific halibut caught incidental to the commercial salmon fishery south of Cape Falcon. Because commercial salmon fisheries south of Cape Falcon were open seven days per week, and had ongoing fisheries at the time this action was taken, the action was implemented as follows. Effective 11:59 p.m., Friday, August 22, 2014, IPHC license holders in the commercial salmon fishery south of Cape Falcon, Oregon may land or possess no more than one Pacific halibut per each four Chinook, except one Pacific halibut may be possessed or landed without meeting the ratio requirement, and no more than three halibut may be possessed or landed per trip. Beginning 12:01 a.m., Saturday, August 23, 2014, any commercial salmon fishing vessels in possession of more than three Pacific halibut must cease all fishing activities until Pacific halibut in excess of three have been landed and delivered. All Pacific halibut, in excess of three per trip, must be landed and delivered no later than 11:59 p.m., Saturday, August 23, 2014. Inseason action #30 superseded inseason action #23 (79 FR 64129) south of Cape Falcon.

Effective dates: Inseason actions #29 and #30 took effect on August 22, 2014, and remained in effect until incidental halibut retention closed on September 11, 2014 under inseason action #38.

Reason and authorization for the action: Based on catch data, the commercial salmon fishery was close to utilizing the incidental halibut allocation. Inseason actions #29 and #30 were taken to avoid exceeding the incidental halibut allocation that was set by the IPHC. Inseason action to modify limited retention regulations is authorized by 50 CFR 660.409(b)(1)(ii).

Consultation date and participants: Consultation on inseason actions #29 and #30 occurred on August 21, 2014. Participants were staff from NMFS, Council, ODFW, and WDFW.

Inseason Action #31

Description of action: Inseason action #31 modified the daily bag limits in the recreational salmon fishery north of Cape Falcon to allow retention of unmarked coho in the Westport, La Push, and Neah Bay subareas; previously, only coho marked with a healed adipose fin clip could be retained.

Effective dates: Inseason action #31 took effect on September 1, 2014, and remained in effect until the affected fisheries closed.

Reason and authorization for the action: This action was taken to provide access to available coho quota and to support fishery-dependent communities on and after the Labor Day holiday, when effort traditionally decreases. Inseason action to modify recreational bag limits is authorized by 50 CFR 660.409(b)(1)(iii).

Consultation date and participants: Consultation on inseason action #31 occurred on August 27, 2014. Participants were staff from NMFS, Council, ODFW, and WDFW.

Inseason Action #32

Description of action: Inseason action #32 modified the landing and possession limits in the commercial salmon fisheries north of Cape Falcon to 20 Chinook and 50 marked coho per vessel per open period north of Queets River (previously 35 Chinook and 50 marked coho) or 20 Chinook and 150 marked coho per vessel per open period south of Queets River (previously 35 Chinook and 150 marked coho). This action superseded inseason action #28.

Effective dates: Inseason action #32 took effect on August 29, 2014, and remained in effect until superseded by inseason action #36, which took effect on September 5, 2014.

Reason and authorization for the action: Catch data suggested that, with three openings remaining in the season, there was a substantial amount of coho quota available, but limited available Chinook quota. Inseason action #32, to reduce Chinook landing limits in the commercial salmon fisheries north of Cape Falcon, was taken to allow access to remaining quotas while not exceeding those quotas. Inseason action to modify limited retention regulations is authorized by 50 CFR 660.409(b)(1)(ii).

Consultation date and participants: Consultation on inseason action #32 occurred on August 27, 2014. Participants were staff from NMFS, Council, ODFW, and WDFW.

Inseason Action #33

Description of action: Inseason action #33 modified the coho quota in the recreational salmon fisheries north of Cape Falcon by converting the remaining coho quota from mark-selective to non-mark-selective on an impact-neutral basis. The STT calculated the impact-neutral conversion for each of the four subareas.

Effective dates: Inseason action #33 took effect on September 1, 2014, and remained in effect until the affected fisheries closed.

Reason and authorization for the action: This action was taken to establish? The non-mark-selective coho quotas that would be available to the recreational fisheries north of Cape Falcon, as modified by inseason action #31. This quota could not be calculated earlier, because completed catch data for August was not previously available. Inseason action to modify quotas is authorized by 50 CFR 660.409(b)(1)(i).

Consultation date and participants: Consultation on inseason action #33 occurred on September 4, 2014. Participants were staff from NMFS, Council, ODFW, and WDFW.

Inseason Action #34

Description of action: Inseason action #34 transferred 1,000 non-mark-selective coho quota from the Neah Bay subarea to the La Push subarea in the recreational salmon fishery north of Cape Falcon. The STT determined that this transfer was impact-neutral without the need for adjustment.

Effective dates: Inseason action #34 took effect on September 1, 2014, and remained in effect until the affected fisheries closed.

Reason and authorization for the action: This action was taken to provide sufficient quota to the La Push subarea to allow fisheries to continue without exceeding the overall quota, north of Cape Falcon. Inseason action to modify quotas is authorized by 50 CFR 660.409(b)(1)(i).

Consultation date and participants: Consultation on inseason action #34 occurred on September 4, 2014. Participants were staff from NMFS, Council, ODFW, and WDFW.

Inseason Action #35

Description of action: Inseason action #35 modified the daily bag limit in the recreational salmon fishery in the Columbia River subarea to all salmon, two fish per day, both of which can be Chinook salmon, and unmarked coho may be retained. Prior to this action, the daily bag limit was two fish per day, only one of which could be a Chinook and all coho retained must be marked with a healed adipose fin clip.

Effective dates: Inseason action #35 took effect on September 6, 2014, and remained in effect until the affected fishery closed.

Reason and authorization for the action: Catch data suggested that a substantial amount of coho and Chinook salmon quota remained for this subarea at this time. This inseason action was taken to allow greater access to available quota. Inseason action to modify recreational bag limits is authorized by 50 CFR 660.409(b)(1)(iii).

Consultation date and participants: Consultation on inseason action #35 occurred on September 4, 2014. Participants were staff from NMFS, Council, ODFW, and WDFW.

Inseason Action #36

Description of action: Inseason action #36 decreased the landing and possession limits in the commercial salmon fishery north of Cape Falcon to 15 Chinook and 20 marked coho north of Queets River (previously 20 Chinook and 50 marked coho) or 15 Chinook and 100 non-mark-selective coho south of Queets River (previously 20 Chinook and 150 marked coho). This action superseded inseason action #32.

Effective dates: Inseason action #36 took effect on September 5, 2014, and remained in effect until superseded by inseason action #40 on September 12, 2014.

Reason and authorization for the action: Catch data suggested that the fishery was approaching the quota for Chinook salmon, but a large quantity of coho quota remained, especially in the subarea south of Queets River. This action was taken to allow access to remaining quotas while not exceeding those quotas. Inseason action to modify limited retention regulations is authorized by 50 CFR 660.409(b)(1)(ii).

Consultation date and participants: Consultation on inseason action #36 occurred on September 4, 2014. Participants were staff from NMFS, Council, ODFW, and WDFW.

Inseason Action #37

Description of action: Inseason action #37 modified the coho quota in the commercial salmon fishery north of Cape Falcon. Remaining coho quota for the area from Queets River to Cape Falcon was converted from mark-selective to non-mark-selective on an impact-neutral basis. The STT calculated the impact-neutral conversions for the affected management areas.

Effective dates: Inseason action #37 took effect on September 4, 2014, and remained in effect until the affected fishery closed.

Reason and authorization for the action: This action was taken to allow access to available quota while managing impacts on weak stocks, as identified preseason. Inseason action to modify quotas and/or fishing seasons is authorized by 50 CFR 660.409(b)(1)(i).

Consultation date and participants: Consultation on inseason action #37 occurred on September 4, 2014. Participants were staff from NMFS, Council, ODFW, and WDFW.

Inseason Action #38

Description of action: Inseason action #38 closed all commercial salmon fisheries, U.S./Canada border to U.S./Mexico border, to retention of Pacific halibut caught incidental to commercial salmon fishing, and required that any Pacific halibut on board must be landed and delivered by 11:59 p.m., Friday September 12, 2014.

Effective dates: Inseason action #38 took effect on September 12, 2014, and remained in effect through the end of the 2014 commercial salmon fishery.

Reason and authorization for the action: This action was taken due to the anticipated attainment of the incidental halibut allocation. Inseason action to modify fishing seasons is authorized by 50 CFR 660.409(b)(1)(i).

Consultation date and participants: Consultation on inseason action #38 occurred on September 10, 2014. Participants were staff from NMFS, Council, ODFW, WDFW, and CDFW.

Inseason Action #39

Description of action: Inseason action #39 transferred 1,000 non-mark-selective coho quota from the Columbia River subarea to the Westport subarea in the recreational salmon fishery north of Cape Falcon. The STT determined that the transfer was impact-neutral and did not require any adjustment.

Effective dates: Inseason action #39 took effect on September 10, 2014, and remained in effect until the affected fisheries closed.

Reason and authorization for the action: This action was taken to ensure that the Westport subarea had access to sufficient quota to support the ongoing fishery, for the benefit of the local fishery-dependent community. Inseason action to modify quotas and/or fishing seasons is authorized by 50 CFR 660.409(b)(1)(i).

Consultation date and participants: Consultation on inseason action #39 occurred on September 10, 2014. Participants were staff from NMFS, Council, ODFW, and WDFW.

Inseason Action #40

Description of action: Inseason action #40 adjusted the landing and possession limits in the commercial salmon fishery north of Cape Falcon to 15 Chinook salmon and 20 marked coho per vessel per open period north of Queets River (unchanged from previous) or 15 Chinook salmon and 200 non-mark-selective coho salmon per vessel per open period south of Queets River (previously 15 Chinook and 100 non-mark-selective coho). This inseason action superseded inseason action #36.

Effective dates: This action took effect on September 12, 2014, and remained in effect until the affected fisheries closed.

Reason and authorization for the action: With only one opening remaining in this fishery, substantial coho quota was still available south of the Queets River. This action was taken to allow access to available quota while managing impacts on weak stocks, as identified preseason. Inseason action to modify limited retention regulations is authorized by 50 CFR 660.409(b)(1)(ii).

Consultation date and participants: Consultation on inseason action #40 occurred on September 10, 2014. Participants were staff from NMFS, Council, ODFW, and WDFW.

Inseason Action #41

Description of action: Inseason action #41 modified the daily landing limit in the commercial salmon fishery in the California KMZ from 20 Chinook salmon per vessel per day to 30 Chinook salmon per vessel per day.

Effective dates: Inseason action #41 took effect on September 19, 2014, and remained in effect until the scheduled closure of this fishery on September 30, 2014.

Reason and authorization for the action: Catch data suggested that substantial quota remained in this fishery with only two open periods remaining in the season. Inseason action #41 was implemented to allow access to available quota. Inseason action to modify limited retention regulations is authorized by 50 CFR 660.409(b)(1)(ii).

Consultation date and participants: Consultation on inseason action #41 occurred on September 17, 2014. Participants in this consultation were staff from NMFS, Council, CDFW, ODFW, and WDFW.

Inseason Action #42

Description of action: Inseason action #42 closed the non-mark-selective coho recreational fishery from Cape Falcon to Humbug Mountain at 11:59 p.m., September 19, 2014. The ongoing all salmon except coho recreational fishery in the same area continued as scheduled.

Effective dates: Inseason action #42 took effect at 11:59 p.m., September 19, 2014, and remained in effect through September 30, 2014, when the non-mark-selective coho fishery was originally scheduled to end.

Reason and authorization for the action: Catch data suggested that keeping this fishery open would likely result in exceeding the non-mark-selective coho quota for this fishery. Inseason action #42 was implemented to prevent exceeding the available quota of coho. Inseason action to modify fishing seasons is authorized by 50 CFR 660.409(b)(1)(i).

Consultation date and participants: Consultation on inseason action #42 occurred on September 17, 2014. Participants in this consultation were staff from NMFS, Council, CDFW, ODFW, and WDFW.

Inseason Action #43

Description of action: Inseason action #43 closed the recreational salmon fisheries in the Westport subarea on September 19, 2014 and in the Columbia River subarea on September 21, 2014. These closures were earlier than scheduled preseason.

Effective dates: Inseason action #43 took effect at 11:59 p.m., September 19, 2014 in the Westport subarea, and at 11:59 p.m., September 21, 2014 in the Columbia River subarea. Inseason action #43 remained in effect through the scheduled end of the affected fisheries, September 30, 2014.

Reason and authorization for the action: This inseason action was taken to avoid exceeding quotas in the recreational salmon fishery. Inseason action to modify fishing seasons is authorized by 50 CFR 660.409(b)(1)(i).

Consultation date and participants: Consultation on inseason action #43 occurred on September 17, 2014. Participants in this consultation were staff from NMFS, Council, CDFW, ODFW, and WDFW.

Inseason Action #44

Description of action: Inseason action #44 transferred unutilized coho quota from the recreational salmon fishery in the Neah Bay subarea and the commercial salmon fishery north of Cape Falcon to the recreation salmon fishery in the Columbia River and Westport subareas.

Effective dates: Inseason action #44 took effect on September 17, 2014, and remained in effect until the affected fisheries closed.

Reason and authorization for the action: This action was taken to ensure that the Westport and Columbia River subareas had access to sufficient quota to support the ongoing fishery, for the benefit of the local fishery-dependent community, until the fisheries closed as scheduled under inseason action #43. Inseason action to modify quotas and/or fishing seasons is authorized by 50 CFR 660.409(b)(1)(i).

Consultation date and participants: Consultation on inseason action #44 occurred on September 17, 2014. Participants in this consultation were staff from NMFS, Council, CDFW, ODFW, and WDFW.

All other restrictions and regulations remain in effect as announced for the 2014 ocean salmon fisheries and 2015 fisheries opening prior to May 1, 2015 (79 FR 24580, May 1, 2014).

The RA determined that the best available information indicated that Chinook salmon, coho salmon, and Pacific halibut landings and fishing effort supported the above inseason actions recommended by the states of Washington, Oregon, and California. The states manage the fisheries in state waters adjacent to the areas of the U.S. exclusive economic zone in accordance with these Federal actions. As provided by the inseason notice procedures of 50 CFR 660.411, actual notice of the described regulatory actions was given, prior to the time the action was effective, by telephone hotline number 206-526-6667 and 800-662-9825, and by U.S. Coast Guard Notice to Mariners broadcasts on Channel 16 VHF-FM and 2182 kHz.

Classification

The Assistant Administrator for Fisheries, NOAA (AA), finds that good cause exists for this notification to be issued without affording prior notice and opportunity for public comment under 5 U.S.C. 553(b)(B) because such notification would be impracticable. As previously noted, actual notice of the regulatory actions was provided to fishers through telephone hotline and radio notification. These actions comply with the requirements of the annual management measures for ocean salmon fisheries (79 FR 24580, May 1, 2014), the West Coast Salmon Fishery Management Plan (Salmon FMP), and regulations implementing the Salmon FMP, 50 CFR 660.409 and 660.411. Prior notice and opportunity for public comment was impracticable because NMFS and the state agencies had insufficient time to provide for prior notice and the opportunity for public comment between the time catch and effort projections were developed and fisheries impacts were calculated, and the time the fishery modifications had to be implemented in order to ensure that fisheries are managed based on the best available scientific information, thus allowing fishers access to the available fish at the time the fish were available while ensuring that quotas are not exceeded. The AA also finds good cause to waive the 30-day delay in effectiveness required under 5 U.S.C. 553(d)(3), as a delay in effectiveness of these actions would allow fishing at levels inconsistent with the goals of the Salmon FMP and the current management measures.

These actions are authorized by 50 CFR 660.409 and 660.411 and are exempt from review under Executive Order 12866.

Authority: 16 U.S.C. 1801 et seq.

Dated: December 16, 2014.
Emily H. Menashes,
Acting Director, Office of Sustainable Fisheries, National Marine Fisheries Service.

[FR Doc. 2014-29785 Filed 12-19-14; 8:45 am]

BILLING CODE 3510-22-P